DEPARTMENT OF ENERGY

Federal Energy Regulatory Commission

[Project No. 3021-088]

Allegheny Hydro No. 8, L.P., Allegheny Hydro No. 9, L.P., and U.S. Bank National Association Allegheny Hydro, LLC; Notice of Application for Transfer of License, and Soliciting Comments and Motions To Intervene

On August 31, 2012, Allegheny Hydro No. 8, L.P., Allegheny Hydro No. 9, L.P., and U.S. Bank National Association (in its capacity as owner trustee) (co-licensees) and Allegheny Hydro, LLC (transferee) filed an application for transfer of license for the Allegheny River Lock and Dam Nos. 8 and 9 Hydroelectric Project No. 3021, located at the U.S. Army Corps of Engineers' Allegheny River Lock and Dam No. 8 and Allegheny River Lock and Dam No. 9 on the Allegheny River in Armstrong County, Pennsylvania.

Applicants seek Commission approval to transfer the license for the Allegheny River Lock and Dam Nos. 8 and 9 Hydroelectric Project from Allegheny Hydro No. 8, L.P., Allegheny Hydro No. 9, L.P., and the U.S. Bank National Association as co-licensees to Allegheny Hydro, LLC as sole licensee.

Applicants' Contact: Mr. Curt Whittaker, Rath, Young and Pignatelli, P.C., One Capital Plaza, Concord, NH 03302, phone: (603) 226-2600 and Mr. Mark C. Williams, Bingham McCutchen LLP, 2020 K Street NW., Suite 1100, Washington, DC 20006, phone (202) 373-6181.

FERC Contact: Patricia W. Gillis (202) 502-8735, patricia.gillis@ferc.gov.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-3021) in the docket number field to access the document. For assistance, call toll-free 1-866-208-3372.

Dated: September 13, 2012.
Kimberly D. Bose,
Secretary.

[FR Doc. 2012-23228 Filed 9-19-12; 8:45 am]

BILLING CODE 6717-01-P